DEPARTMENT OF TRANSPORTATION

Federal Highway Administration

[Docket No. FHWA-2003-16310]

Notice of Request for Renewal of a Currently Approved Information Collection; Statement of Materials and Labor Used by Contractors on Highway Construction Involving Federal Funds, OMB Control Number: 2125-0033

AGENCY: U.S. Department of Transportation, Federal Highway Administration (FHWA).

ACTION: Notice and request for comments.

SUMMARY: In accordance with the requirements in Section 3506(c)(2)(A) of the Paperwork Reduction Act of 1995, this notice announces the intention of the FHWA to request the Office of Management and Budget (OMB) to renew its clearance for the currently approved FHWA collection of information identified below under Supplementary Information.

DATES: Please submit comments by January 6, 2004.

ADDRESSES: You may submit comments identified by DOT DMS Docket Number FHWA-2003-16310 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 am and 5 pm, Monday through Friday, except Federal holidays.

Docket: For access to the docket to read background documents or comments received, go to http://dms.dot.gov at any time or to Room PL-401 on the plaza level of the Nassif Building, 400 Seventh Street, SW., Washington, DC, between 9 am and 5 pm, Monday through Friday, except Federal holidays.

Public Comments Invited: Interested parties are invited to send comments regarding any aspect of this information collection, including, but not limited to: (1) The necessity and utility of the information collection for the proper performance of the functions of the FHWA; (2) the accuracy of the estimated burden; (3) ways to enhance the quality, utility, and clarity of the collected information; and (4) ways to minimize the collection burden without reducing the quality of the collected information. Comments submitted in response to this notice will be summarized and/or included in the requests for OMB's clearance of the following collection of information.

SUPPLEMENTARY INFORMATION: Title: Statement of Materials and Labor Used by Contractors on Highway Construction Involving Federal Funds.

OMB Control Number: 2125-0033.

Background: The State highway agencies and contractors who work on highway projects are required to submit data regarding the usage of materials and labor in highway construction (23 CFR 635.126). This data is submitted to the FHWA on Form FHWA-47, “Statement of Materials and Labor Used by Contractors on Highway Construction Involving Federal Funds.” Title 29 U.S.C. 2 authorizes the Department of Labor (DOL) to collect the labor-related information using its own forces or by getting the information from other Federal agencies. An informal agreement has been reached for the FHWA to collect the desired data for DOL. The data is used by the FHWA for estimating current materials usage and cost distribution on Federal-aid highway construction contracts to aid in planning for future requirements based on anticipated program levels. The information is also used by the Department of Labor in its studies on the highway construction industry's labor and materials requirements, and by the industry, including the materials suppliers. This information is made available to other Federal, State and local agencies, universities, businesses, and industry for their own uses.

Estimated Annual Burden: The FHWA estimates that the total annual burden imposed on the public by this collection is 7,475 hours and the estimated time to complete each report is 5 hours.

Number of Respondents: 650 State highway agencies and Federal-Aid highway contractors.

Frequency: Approximately 650 State highway agencies and Federal-Aid highway contractors complete and submit an average of 2.3 reports on Form FHWA-47 each year.

FOR FURTHER INFORMATION CONTACT: Ms. Claretta Duren, (202) 366-4636, Department of Transportation, Federal Highway Administration, Office of Pavement Technology, 400 Seventh Street, SW., Washington, DC 20590. Office hours are from 7:45 a.m. to 4:15 p.m., Monday through Friday, except Federal holidays.

Issued on: October 30, 2003.
James R. Kabel,
Chief, Management Programs and Analysis Division.

[FR Doc. 03-28052 Filed 11-6-03; 8:45 am]

BILLING CODE 4910-22-P